NATIONAL AERONAUTICS AND SPACE ADMINISTRATION

[Notice (11-104)]

International Space Station (ISS) National Laboratory Advisory Committee; Charter Renewal

AGENCY: National Aeronautics and Space Administration (NASA).

ACTION: Notice of renewal and amendment of the charter of the NASA ISS National Laboratory Advisory Committee.

SUMMARY: Pursuant to sections 14(b)(1) and 9(c) of the Federal Advisory Committee Act (Pub. L. 92-463), and after consultation with the Committee Management Secretariat, General Services Administration, the NASA Administrator has determined that renewal and amendment of the charter of the NASA ISS National Laboratory Advisory Committee is in the public interest in connection with the performance of duties imposed on NASA by law. The renewed charter is for a two-year period ending October 6, 2013. It is identical to the previous charter in all respects except it updates the legal citation and the name of the NASA organizational element with responsibility for management of this Federal advisory committee.

FOR FURTHER INFORMATION CONTACT: Ms. Susan M. Burch, Advisory Committee Management Division, Office of International and Interagency Relations, (202) 358-0550, National Aeronautics and Space Administration, Washington, DC 20546-0001.

October 18, 2011.
P. Diane Rausch,
Advisory Committee Management Officer, National Aeronautics and Space Administration.

[FR Doc. 2011-27416 Filed 10-21-11; 8:45 am]

BILLING CODE P